DEPARTMENT OF HOMELAND SECURITY

U.S. Citizenship and Immigration Services

[CIS No. 2533-13; DHS Docket No. USCIS-2007-0028]

RIN 1615-ZB20

Extension of the Designation of El Salvador for Temporary Protected Status

AGENCY: U.S. Citizenship and Immigration Services, Department of Homeland Security.

ACTION: Notice.

SUMMARY: Through this Notice, the Department of Homeland Security (DHS) announces that the Secretary of Homeland Security (Secretary) is extending the designation of El Salvador for Temporary Protected Status (TPS) for 18 months from September 10, 2013 through March 9, 2015.

The extension allows currently eligible TPS beneficiaries to retain TPS through March 9, 2015 so long as they otherwise continue to meet the terms and conditions of TPS status. The Secretary has determined that an extension is warranted because the conditions in El Salvador that prompted the TPS designation continue to be met. There continues to be a substantial, but temporary, disruption of living conditions in El Salvador resulting from a series of earthquakes in 2001, and El Salvador remains unable, temporarily, to handle adequately the return of its nationals.

Through this Notice, DHS also sets forth procedures necessary for nationals of El Salvador (or aliens having no nationality who last habitually resided in El Salvador) to re-register for TPS and to apply for renewal of their Employment Authorization Documents (EADs) with U.S. Citizenship and Immigration Services (USCIS). Re-registration is limited to persons who have previously registered for TPS under the designation of El Salvador and whose applications have been granted. Certain nationals of El Salvador (or aliens having no nationality who last habitually resided in El Salvador) who have not previously applied for TPS may be eligible to apply under the late initial registration provisions, if they meet: (1) At least one of the late initial filing criteria and (2) all TPS eligibility criteria (including continuous residence in the United States since February 13, 2001, and continuous physical presence in the United States since March 9, 2001).

For individuals who have already been granted TPS under the El Salvador designation, the 60-day re-registration period runs from May 30, 2013 through July 29, 2013. USCIS will issue new EADs with a March 9, 2015 expiration date to eligible Salvadoran TPS beneficiaries who timely re-register and apply for EADs under this extension. Given the timeframes involved with processing TPS re-registration applications, DHS recognizes that not all re-registrants will receive new EADs before their current EADs expire on September 9, 2013. Accordingly, through this Notice, DHS automatically extends the validity of EADs issued under the TPS designation of El Salvador for 6 months, from September 9, 2013 through March 9, 2014, and explains how TPS beneficiaries and their employers may determine which EADs are automatically extended and their impact on Employment Eligibility Verification (Form I-9) and the E-Verify processes.

DATES: The 18-month extension of the TPS designation of El Salvador is effective September 10, 2013, and will remain in effect through March 9, 2015. The 60-day re-registration period runs from May 30, 2013 through July 29, 2013.

FOR FURTHER INFORMATION CONTACT: • For further information on TPS, including guidance on the application process and additional information on eligibility, please visit the USCIS TPS Web page at http://www.uscis.gov/tps. You can find specific information about this extension of El Salvador for TPS by selecting “TPS Designated Country: El Salvador” from the menu on the left of the TPS Web page.

• You can also contact the TPS Operations Program Manager at the Family and Status Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS notice. It is not for individual case status updates.

• Applicants seeking information about the status of their individual cases can check Case Status Online, available at the USCIS Web site at http://www.uscis.gov, or call the USCIS National Customer Service Center at 800-375-5283 (TTY 800-767-1833). Service is available in English and Spanish.

• Further information will also be available at local USCIS offices upon publication of this Notice.

SUPPLEMENTARY INFORMATION:

Table of Abbreviations

BIA—Board of Immigration Appeals

DHS—Department of Homeland Security

DOS—Department of State

EAD—Employment Authorization Document

EU—European Union

Government—U.S. Government

IDB—Inter-American Development Bank

IJ—Immigration Judge

INA—Immigration and Nationality Act

OSC—U.S. Department of Justice, Office of Special Counsel for Immigration-Related Unfair Employment Practices

SAVE—USCIS Systematic Alien Verification for Entitlements Program

Secretary—Secretary of Homeland Security

TPS—Temporary Protected Status

UN—United Nations

USAID—U.S. Agency for International Development

USCIS—U.S. Citizenship and Immigration Services

USD—U.S. dollars

WHO—World Health Organization

What is temporary protected status (TPS)?

• TPS is a temporary immigration status granted to eligible nationals of a country designated for TPS under the Immigration and Nationality Act (INA), or to persons without nationality who last habitually resided in the designated country.

• During the TPS designation period, TPS beneficiaries are eligible to remain in the United States and may obtain work authorization, so long as they continue to meet the requirements of TPS status.

• TPS beneficiaries may also be granted travel authorization as a matter of discretion.

• The granting of TPS does not lead to permanent resident status.

• When the Secretary terminates a country's TPS designation, beneficiaries return to the same immigration status they maintained before TPS, if any (unless that status has since expired or been terminated), or to any other lawfully obtained immigration status they received while registered for TPS.

When was El Salvador designated for TPS?

On March 9, 2001, the Attorney General designated El Salvador for TPS based on an environmental disaster within that country, specifically the devastation resulting from a series of earthquakes that occurred in 2001. See 66 FR 14214, Mar. 9, 2001; section 244(b)(1)(B) of the INA, 8 U.S.C. 1254a(b)(1)(B). The last extension of TPS for El Salvador was announced on January 11, 2012, based on the Secretary's determination that the conditions warranting the designation continued to be met. See 77 FR 1710, Jan. 11, 2012 (correction 77 FR 2990, Jan. 20, 2012). This announcement is the ninth extension of TPS for El Salvador since the original designation in 2001.

What authority does the Secretary of Homeland Security have to extend the designation of El Salvador for TPS?

Section 244(b)(1) of the INA, 8 U.S.C. 1254a(b)(1), authorizes the Secretary, after consultation with appropriate Government agencies, to designate a foreign state (or part thereof) for TPS.¹ The Secretary may then grant TPS to eligible nationals of that foreign state (or aliens having no nationality who last habitually resided in that state). See section 244(a)(1)(A) of the INA, 8 U.S.C. 1254a(a)(1)(A).

¹ As of March 1, 2003, in accordance with section 1517 of title XV of the Homeland Security Act of 2002 (HSA), Public Law 107-296, 116 Stat. 2135, any reference to the Attorney General in a provision of the INA describing functions transferred from the Department of Justice to the Department of Homeland Security “shall be deemed to refer to the Secretary” of Homeland Security. See 6 U.S.C. 557 (codifying HSA, tit. XV, sec. 1517).

At least 60 days before the expiration of a country's TPS designation or extension, the Secretary, after consultation with appropriate Government agencies, must review the conditions in a foreign state designated for TPS to determine whether the conditions for the TPS designation continue to be met. See section 244(b)(3)(A) of the INA, 8 U.S.C. 1254a(b)(3)(A). If the Secretary determines that a foreign state continues to meet the conditions for TPS designation, the designation is extended for an additional 6 months (or in the Secretary's discretion for 12 or 18 months). See section 244(b)(3)(C) of the INA, 8 U.S.C. 1254a(b)(3)(C). If the Secretary determines that the foreign state no longer meets the conditions for TPS designation, the Secretary must terminate the designation. See section 244(b)(3)(B) of the INA, 8 U.S.C. 1254a(b)(3)(B).

Why is the Secretary extending the TPS designation for El Salvador for TPS through March 9, 2015?

Over the past year, DHS and the Department of State (DOS) have continued to review conditions in El Salvador. Based on this review and after consulting with DOS, the Secretary has determined that an 18-month extension is warranted because many of the adverse country conditions in El Salvador resulting from the environmental disaster that prompted the March 9, 2001 designation persist. As a result, the substantial, but temporary disruption of living conditions in the affected areas continue, and El Salvador remains temporarily unable to handle adequately the return of its nationals, hundreds of thousands of whom hold TPS but no other valid immigration status in the United States. See section 244(b)(1)(B) of the INA.

Three severe earthquakes in January and February 2001 in El Salvador resulted in the loss of over 1,000 lives, approximately 8,000 people injured, displacement of thousands more, extensive destruction of physical infrastructure, and severe damage to the country's economic system. See 66 FR 14214 (Mar. 9, 2001) (describing the devastation caused by the 2001 earthquakes). El Salvador's recovery is still incomplete, and significant damage remains to the country's infrastructure and public services in the affected areas.

Based on estimates reported by the U.S. Agency for International Development (USAID), the earthquakes affected approximately 1.5 million people, and El Salvador suffered catastrophic damage and losses. Economic losses (which include housing, infrastructure, and agriculture) were reported to be as high as $2.8 billion USD, almost 15 percent of El Salvador's gross domestic product at the time. In response to the devastation, the USAID, the Inter-American Development Bank (IDB), the World Bank, and the European Union (EU) initiated reconstruction throughout the country. Despite these programs, recovery in the affected areas of El Salvador has been slow and disrupted by subsequent natural disasters, including a recent 7.4 magnitude earthquake in 2012 and Tropical Depression 12E in October 2011. The Tropical Depression flooded approximately 10 percent of the country, caused $840 million USD in damage, displaced approximately 55,000 people, and led to a declaration of state of emergency throughout El Salvador. These most recent environmental disasters have compounded the already substantial disruption to living conditions resulting from the 2001 earthquakes.

According to the government of El Salvador, the 2001 earthquakes damaged or destroyed over 276,000 housing units. Although the EU, Habitat for Humanity, and Cooperative Housing Foundation International have completed reconstruction and repair efforts, the Salvadoran government has previously estimated that only half of the homes that were destroyed have been rebuilt. Rebuilding efforts in the affected areas have also been hindered by Tropical Depression 12E.

According to the Ministry of Education of El Salvador, as of July 2004, over 2,300 schools destroyed in 2001 were rebuilt, but the remaining 270 schools damaged by the earthquakes required $21.7 million USD in financing to complete construction. The USAID Reconstruction Office also reported that the reconstruction of schools has been delayed at times due to the unavailability of funding.

The 2001 earthquakes also severely damaged approximately 55 percent of the country's capacity to deliver health services. Although it has been over 10 years since the 2001 earthquakes and most medical services were restored by 2011, the current infrastructure and conditions in El Salvador severely complicate the country's ability to absorb the return of its nationals from the United States, approximately 212,000 of whom are TPS beneficiaries. Rebuilding efforts in the affected areas have been further complicated by more recent natural disasters, including Tropical Depression 12E that damaged 19 hospitals and 238 health facilities-more than two times the number reported damaged in 2001.

The National Water Institution estimated that in the aftermath of the 2001 earthquakes, 40 to 50 percent of the Salvadoran population lacked access to potable water due to damage to the water and electrical systems. There are no accurate statistics on how many water and sanitation systems have been repaired since, but some studies show that the water treatment in urban areas has improved with four-fifths of the population gaining access to clean water. However, reports also convey that rural areas still need major improvements. According to the WHO and UN Children's Fund Joint Monitoring Program for Water Supply and Sanitation, in 2010 6 percent of urban dwellers and 24 percent of rural dwellers lacked access to water sources and the majority of households lacked continuous access to water. In terms of sewerage, 38 percent of urban dwellers and 98 percent of rural dwellers lack adequate sewage treatment. Living conditions remain disrupted in the areas affected by the devastation caused by the 2001 earthquakes. Those areas continue to face serious economic and infrastructure challenges and public health concerns stemming from the 2001 earthquakes.

The IDB approved a $44 million USD, 5-year, rural water and sanitation improvement program (which began in 2010 and is set to be completed in 2014). This program aims to improve living conditions through better water and sanitation services by building 85 water systems benefiting 6,000 households, and to increase water coverage to 80 percent in El Salvador's 100 poorest towns.

The 2001 earthquakes damaged some of El Salvador's main highways and made smaller roads impassable. Although the roads damaged in the earthquakes were repaired, they are still vulnerable to damage from natural disasters. Following the devastation experienced from the 2001 earthquakes, more recent environmental disasters have caused substantial setbacks to road and infrastructure recovery and development. El Salvador's location on the so-called Ring of Fire (an arc of fault lines circling the Pacific Basin), makes it vulnerable to earthquakes, volcanic eruptions, and flooding. A series of natural disasters have plagued El Salvador since 2001 that have compounded the initial devastation resulting from the 2001 earthquakes. Accordingly, many of the adverse conditions caused by the 2001 earthquakes continue to exist in the affected areas.

Although over a decade has passed, affected areas of El Salvador are still rebuilding from the devastating 2001 earthquakes. Reconstruction efforts have been further complicated by sluggish economic growth and by more recent natural disasters. This series of more recent natural disasters have compounded the initial devastation caused by the 2001 earthquakes, and El Salvador has endured severe, continuing, and sustained damage to its infrastructure. The UN Development Programme has classified El Salvador as among the most vulnerable countries in the world.

Based on this review and after consultation with appropriate Government agencies, the Secretary finds that:

• The conditions that prompted the March 9, 2001 designation of El Salvador for TPS continue to be met. See sections 244(b)(3)(A) and (C) of the INA, 8 U.S.C. 1254a(b)(3)(A) and (C).

• There continues to be a substantial, but temporary, disruption in living conditions in affected areas of El Salvador as a result of an environmental disaster. See section 244(b)(1)(B) of the Act, 8 U.S.C. 1254a(b)(1)(B).

• El Salvador continues to be unable, temporarily, to handle adequately the return of its nationals (or aliens having no nationality who last habitually resided in El Salvador). See section 244(b)(1)(B) of the Act, 8 U.S.C. 1254a(b)(1)(B).

• The designation of El Salvador for TPS should be extended for an additional 18-month period from September 10, 2013 through March 9, 2015. See section 244(b)(3)(C) of the INA, 8 U.S.C. 1254a(b)(3)(C).

• There are approximately 212,000 current El Salvador TPS beneficiaries who are expected to be eligible to re-register for TPS under the extension.

Notice of Extension of the TPS Designation of El Salvador

By the authority vested in me as Secretary under section 244 of the INA, 8 U.S.C. 1254a, I have determined, after consultation with the appropriate Government agencies that the conditions that prompted the designation of El Salvador for TPS on March 9, 2001, continue to be met. See section 244(b)(3)(A) of the INA, 8 U.S.C. 1254a(b)(3)(A). On the basis of this determination, I am extending the existing TPS designation of El Salvador for 18 months from September 10, 2013 through March 9, 2015.

Janet Napolitano,
Secretary.

Required Application Forms and Application Fees to Register or Re-register for TPS

To register or re-register for TPS for El Salvador, an applicant must submit each of the following two applications:

1. Application for Temporary Protected Status (Form I-821).

• If you are filing an application for late initial registration, you must pay the fee for the Application for Temporary Protected Status (Form I-821). See 8 CFR 244.2(f)(2) and 244.6 and information on late initial filing on the USCIS TPS Web page at http://www.uscis.gov/tps.

• If you are filing an application for re-registration, you do not need to pay the fee for the Application for Temporary Protected Status (Form I-821). See 8 CFR 244.17.

and

2. Application for Employment Authorization (Form I-765).

• If you are applying for late initial registration and want an EAD, you must pay the fee for the Application for Employment Authorization (Form I-765) only if you are age 14 through 65. No fee for the Application for Employment Authorization (Form I-765) is required if you are under the age of 14 or are 66 and older and applying for late initial registration.

• If you are applying for re-registration, you must pay the fee for the Application for Employment Authorization (Form I-765) only if you want an EAD.

• You do not pay the fee for the Application for Employment Authorization (Form I-765) if you are not requesting an EAD, regardless of whether you are applying for late initial registration or re-registration.

You must submit both completed application forms together. If you are unable to pay for the application and/or biometrics fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Refiling a Re-registration TPS Application After Receiving a Denial of a Fee Waiver Request

USCIS urges all re-registering applicants to file as soon as possible within the 60-day re-registration period so that USCIS can process the applications and issue EADs promptly. Filing early will also allow those applicants who may receive denials of their fee waiver requests to have time to re-file their applications before the re-registration deadline. If, however, an applicant receives a denial of his or her fee waiver request and is unable to re-file by the re-registration deadline, the applicant may still re-file his or her application. This situation will be reviewed to determine whether the applicant has established good cause for late re-registration. However, applicants are urged to re-file within 45 days of the date on their USCIS fee waiver denial notice, if at all possible. See section 244(c)(3)(C) of the INA; 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the Application for Employment Authorization (Form I-765) fee, until after USCIS has approved the individual's TPS re-registration, if he or she is eligible.

Mailing Information

Mail your application for TPS to the proper address in Table 1.

Table 1—Mailing Addresses
If . . . | Mail to . . .
Applying for re-registration and live in the following states: Connecticut, Delaware, Florida, Georgia, Illinois, Indiana, Kentucky, Maine, Maryland, Massachusetts, Michigan, New Hampshire, New Jersey, North Carolina, Ohio, Pennsylvania, Rhode Island, South Carolina, Vermont, Virginia, Washington, DC, West Virginia | U.S. Postal Service: U.S. Citizenship and Immigration Services, Attn: TPS El Salvador, P.O. Box 8635, Chicago, IL 60680-8635. Non-U.S. Postal Delivery Service: U.S. Citizenship and Immigration Services, Attn: TPS El Salvador, 131 S. Dearborn—3rd Floor Chicago, IL 60603-5517.
Applying for re-registration and live in the following states/territories: Alabama, Alaska, American Samoa, Arkansas, Colorado, Guam, Hawaii, Idaho, Iowa, Kansas, Louisiana; Minnesota, Mississippi, Missouri, Montana, Nebraska, New Mexico, New York, North Dakota, Northern Mariana Islands, Oklahoma, Puerto Rico, South Dakota, Tennessee, Texas, Utah, Virgin Islands, Wisconsin, Wyoming | U.S. Postal Service: U.S. Citizenship and Immigration Services, Attn: TPS El Salvador, P.O. Box 660864, Dallas, TX 75266. Non-U.S. Postal Delivery Service: U.S. Citizenship and Immigration Services, Attn: TPS El Salvador, 2501 S. State Highway, 121 Business Suite 400, Lewisville, TX 75067.
Applying for re-registration and live in the following states: Arizona, California, Nevada, Oregon, Washington | U.S. Postal Service: U.S. Citizenship and Immigration Services, Attn: TPS El Salvador, P.O. Box 21800, Phoenix, AZ 85036. Non-U.S. Postal Delivery Service: U.S. Citizenship and Immigration Services, Attn: TPS El Salvador, 1820 E. Skyharbor Circle S, Suite 100, Phoenix, AZ 85034.
Applying for the first time as a late initial registration (all states/territories). | U.S. Postal Service: U.S. Citizenship and Immigration Services, Attn: TPS El Salvador, P.O. Box 8635, Chicago, IL 60680-8635. Non-U.S. Postal Delivery Service: U.S. Citizenship and Immigration Services, Attn: TPS El Salvador, 131 S. Dearborn—3rd Floor, Chicago, IL 60603-5517.

If you were granted TPS by an immigration judge (IJ) or the Board of Immigration Appeals (BIA), and you wish to request an EAD, or are re-registering for the first time following a grant of TPS by the IJ or BIA, please mail your application to the appropriate address in Table 1 above. Upon receiving a Receipt Notice from USCIS, please send an email to TPSijgrant.vsc@uscis.dhs.gov with the receipt number and state that you submitted a re-registration and/or request for an EAD based on an IJ/BIA grant of TPS. You can find detailed information on what further information you need to email and the email addresses on the USCIS TPS Web page at http://www.uscis.gov/tps.

E-Filing

If you are re-registering for TPS during the re-registration period and you do not need to submit any supporting documents or evidence, you are eligible to file your applications electronically. For more information on e-filing, please visit the USCIS E-Filing Reference Guide at the USCIS Web site at http://www.uscis.gov.

Employment Authorization Document (EAD)

May I request an interim EAD at my local USCIS office?

No. USCIS will not issue interim EADs to TPS applicants and re-registrants at local offices.

Am I eligible to receive an automatic 6-month extension of my current EAD from September 9, 2013 through March 9, 2014?

Provided that you currently have TPS under the El Salvador designation, this notice automatically extends your EAD by 6 months if you:

• Are a national of El Salvador (or an alien having no nationality who last habitually resided in El Salvador);

• Received an EAD under the last extension or re-designation of TPS for El Salvador; and

• Have an EAD with a marked expiration date of September 9, 2013, bearing the notation “A-12” or “C-19” on the face of the card under “Category.”

Although your EAD is automatically extended through March 9, 2014 by this notice, you must re-register timely for TPS in accordance with the procedures described in this notice if you would like to maintain your TPS.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization). An EAD is an acceptable document under “List A.” Employers may not reject a document based upon a future expiration date.

If your EAD has an expiration date of September 9, 2013, and states “A-12” or “C-19” under “Category”, it has been extended automatically for 6 months by virtue of this Federal Register notice, and you may choose to present your EAD to your employer as proof of identity and employment authorization for Employment Eligibility Verification (Form I-9) through March 9, 2014 (see the subsection below titled “How do I and my employer complete the Employment Eligibility Verification (Form I-9) (i.e., verification) using an automatically extended EAD for a new job?” for further information). To minimize confusion over this extension at the time of hire, you may also show your employer a copy of this Federal Register notice confirming the automatic extension of employment authorization through March 9, 2014. As an alternative to presenting your automatically extended EAD, you may choose to present any other acceptable document from List A, or List B plus List C.

What documentation may I show my employer if I am already employed but my current TPS-related EAD is set to expire?

Even though EADs with an expiration date of September 9, 2013, that state “A-12” or “C-19” under “Category” have been automatically extended for 6 months by virtue of this Federal Register notice, your employer will need to ask you about your continued employment authorization once September 9, 2013 is reached in order to meet its responsibilities for Employment Eligibility Verification (Form I-9). However, your employer does not need a new document to reverify your employment authorization until March 9, 2014, the expiration date of the automatic extension. Instead, you and your employer must make corrections to the employment authorization expiration dates in section 1 and section 2 of the Employment Eligibility Verification (Form I-9) (see the subsection below titled “What corrections should I and my current employer make to the Employment Eligibility Verification (Form I-9) if my EAD has been automatically extended?” for further information). In addition, you may also show this Federal Register notice to your employer to avoid confusion about what to do for the Form I-9.

By March 9, 2014, the expiration date of the automatic extension, your employer must reverify your employment authorization. You must present any document from List A or any document from List C on Employment Eligibility Verification (Form I-9) to reverify employment authorization. Your employer is required to reverify on Employment Eligibility Verification (Form I-9) the employment authorization of current employees no later than the expiration of a TPS-related EAD. Your employer should use either Section 3 of the Form I-9 originally completed for the employee or, if this section has already been completed or if the version of Form I-9 is no longer valid, complete Section 3 of a new Form I-9 using the most current version. Note that your employer may not specify which List A or List C document employees must present.

Can my employer require that I produce any other documentation to prove my status, such as proof of my Salvadoran citizenship?

No. When completing Employment Eligibility Verification (Form I-9), including reverifying employment authorization, employers must accept any documentation that appears on the “Lists of Acceptable Documents” for Employment Eligibility Verification (Form I-9) and that reasonably appears to be genuine and that relates to you. Employers may not request documentation that does not appear on the “Lists of Acceptable Documents.” Therefore, employers may not request proof of Salvadoran citizenship when completing Employment Eligibility Verification (Form I-9) for new hires or reverifying the employment authorization of current employees. If presented with EADs that are unexpired on their face or that have been automatically extended, employers should accept such EADs as valid List A documents so long as the EADs reasonably appear to be genuine and to relate to the employee. See below for important information about your rights if your employer rejects lawful documentation, requires additional documentation, or otherwise discriminates against you based on your citizenship or immigration status, or your national origin.

What happens after March 9, 2014 for purposes of employment authorization?

After March 9, 2014, employers may no longer accept the EADs that this Federal Register notice automatically extended. However, before that time, USCIS will issue new EADs to eligible TPS re-registrants who request them. These new EADs will have an expiration date of March 9, 2015 and can be presented to your employer for completion of Employment Eligibility Verification (Form I-9). Alternatively, you may choose to present any other legally acceptable document or combination of documents listed on the Employment Eligibility Verification (Form I-9).

How do I and my employer complete the Employment Eligibility Verification (Form I-9) (i.e., verification) using an automatically extended EAD for a new job?

When using an automatically extended EAD to fill out the Employment Eligibility Verification (Form I-9) for a new job prior to March 9, 2014, you and your employer should do the following:

(1) For Section 1, you should:

a. Check “An alien authorized to work”;

b. Write your alien number (USCIS number or A-number) in the first space (your EAD or other document from DHS will have your USCIS number or A-number printed on it; the USCIS Number is the same as your A-number without the A prefix); and

c. Write the automatic extension date (March 9, 2014) in the second space.

(2) For Section 2, employers should record the:

a. Document title;

b. Document number; and

c. Automatically extended EAD expiration date (March 9, 2014).

No later than March 9, 2014, employers must reverify the employee's employment authorization in Section 3 of the Employment Eligibility Verification (Form I-9).

What corrections should my current employer and I make to the Employment Eligibility Verification (Form I-9) if my EAD has been automatically extended?

If you are an existing employee who presented a TPS-related EAD that was valid when you first started your job, but that EAD has now been automatically extended, you and your employer should correct your previously completed Employment Eligibility Verification (Form I-9) as follows:

(1) For Section 1, you should:

a. Draw a line through the expiration date in the second space;

b. Write “March 9, 2014” above the previous date;

c. Write “TPS Ext.” in the margin of Section 1; and

d. Initial and date the correction in the margin of Section 1.

(2) For Section 2, employers should:

a. Draw a line through the expiration date written in Section 2;

b. Write “March 9, 2014” above the previous date;

c. Write “TPS Ext.” in the margin of Section 2; and

d. Initial and date the correction in the margin of Section 2.

By March 9, 2014, when the automatic extension of EADs expires, employers must reverify the employee's employment authorization in Section 3.

If I am an employer enrolled in E-Verify, what do I do when I receive a “Work Authorization Documents Expiration” alert for an automatically extended EAD?

If you are an employer who participates in E-Verify, you will receive a “Work Authorization Documents Expiring” case alert when a TPS beneficiary's EAD is about to expire. Usually, this message is an alert to complete Section 3 of the Employment Eligibility Verification (Form I-9) to reverify an employee's employment authorization. For existing employees with TPS-related EADs that have been automatically extended, employers should dismiss this alert by clicking the red “X” in the “dismiss alert” column and follow the instructions above explaining how to correct the Employment Eligibility Verification (Form I-9). By March 9, 2014, employment authorization must be reverified in Section 3. Employers should never use E-Verify for reverification.

Note to All Employers

Employers are reminded that the laws requiring proper employment eligibility verification and prohibiting unfair immigration-related employment practices remain in full force. This notice does not supersede or in any way limit applicable employment verification rules and policy guidance, including those rules setting forth reverification requirements. For general questions about the employment eligibility verification process, employers may call the USCIS Form I-9 Customer Support at 888-464-4218 (TDD for the hearing impaired is at 877-875-6028). For questions about avoiding discrimination during the employment eligibility verification process, employers may also call the U.S. Department of Justice, Office of Special Counsel for Immigration-Related Unfair Employment Practices (OSC) Employer Hotline at 800-255-8155 (TDD for the hearing impaired is at 800-237-2515), which offers language interpretation in numerous languages.

Note to All Employees

For general questions about the employment eligibility verification process, employees may call the USCIS National Customer Service Center at 800-375-5283 (TDD for the hearing impaired is at 800-767-1833); calls are accepted in English and Spanish. Employees or applicants may also call the OSC Worker Information Hotline at 800-255-7688 (TDD for the hearing impaired is at 800-237-2515) for information regarding employment discrimination based upon citizenship, immigration status, or national origin, or for information regarding discrimination related to Employment Eligibility Verification (Form I-9) and E-Verify. The OSC Worker Information Hotline provides language interpretation in numerous languages. To comply with the law, employers must accept any document or combination of documents acceptable for Employment Eligibility Verification (Form I-9) completion if the documentation reasonably appears to be genuine and to relate to the employee. Employers may not require extra or additional documentation beyond what is required for Employment Eligibility Verification (Form I-9) completion. Further, employers participating in E-Verify who receive an E-Verify initial mismatch (“tentative nonconfirmation” or “TNC”) on employees must promptly inform employees of the mismatch and give such employees an opportunity to challenge the mismatch. Employers are prohibited from taking adverse action against such employees based on the initial mismatch unless and until E-Verify returns a final nonconfirmation. For example, employers must allow employees challenging their mismatches to continue to work without any delay in start date or training and without any change in hours or pay, while the final E-Verify determination remains pending. Additional information about proper nondiscriminatory I-9 and E-Verify procedures is available on the OSC Web site at http://www.justice.gov/crt/about/osc and the USCIS Web site at http://www.dhs.gov/E-verify.

Note Regarding Federal, State, and Local Government Agencies (Such as Departments of Motor Vehicles)

While Federal government agencies must follow the guidelines laid out by the Federal government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples are:

(1) Your expired EAD that has been automatically extended, or your EAD that has not expired;

(2) A copy of this Federal Register notice if your EAD is automatically extended under this notice;

(3) A copy of your Application for Temporary Protected Status Receipt Notice (Form I-797) for this re-registration;

(4) A copy of your past or current Application for Temporary Protected Status Approval Notice (Form I-797), if you received one from USCIS; and/or

(5) If there is an automatic extension of work authorization, a copy of the fact sheet from the USCIS TPS Web site that provides information on the automatic extension.

Check with the government agency regarding which document(s) the agency will accept. You may also provide the agency with a copy of this notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request can be found at the SAVE Web site at http://www.uscis.gov/save, then by choosing “How to Correct Your Records” from the menu on the right.

[FR Doc. 2013-12793 Filed 5-29-13; 8:45 am]

BILLING CODE 9111-97-P